DEPARTMENT OF ENERGY

Secretary of Energy Advisory Board

AGENCY: Department of Energy.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Tuesday, December 3, 2013, 8:00 a.m.-12:15 p.m.

ADDRESSES: Lawrence Livermore National Laboratory, 7000 East Avenue, Building 6475, Greenville Road Entrance, Livermore, CA 94550.

FOR FURTHER INFORMATION CONTACT: Amy Bodette, Designated Federal Officer, U.S. Department of Energy, 1000 Independence Avenue SW., Washington, DC 20585; telephone (202) 586-0383 or facsimile (202) 586-1441; seab@hq.doe.gov.

SUPPLEMENTARY INFORMATION: Background: The Board was established to provide advice and recommendations to the Secretary on the Department's basic and applied research, economic and national security policy, educational issues, operational issues, and other activities as directed by the Secretary.

Purpose of the Meeting: The Subcommittees of the Board will provide updates on their work. Board members will also receive briefings on topics of interest.

Tentative Agenda: The meeting will start at 8:00 a.m. on December 3rd. The tentative meeting agenda includes reports from SEAB Task forces, briefings from the Lab and DOE, and comments from the public. The meeting will conclude at 12:15 p.m.

Public Participation: The meeting is open to the public. Individuals who would like to attend must RSVP to seab@hq.doe.gov no later than November 26th at 5:00 p.m. Please provide your name, organization, citizenship, and contact information. Anyone attending the meeting will be required to present government issued identification. Individuals and representatives of organizations who would like to offer comments and suggestions may do so at the end of the meeting. Approximately 30 minutes will be reserved for public comments. Time allotted per speaker will depend on the number who wish to speak but will not exceed five minutes. The Designated Federal Officer is empowered to conduct the meeting in a fashion that will facilitate the orderly conduct of business. Those wishing to speak should register to do so beginning at 8:00 a.m. on December 3, 2013.

Those not able to attend the meeting or who have insufficient time to address the committee are invited to send a written statement to Amy Bodette, U.S. Department of Energy, 1000 Independence Avenue SW., Washington DC 20585, email to seab@hq.doe.gov.

Minutes: The minutes of the meeting will be available by contacting Ms. Bodette. She may be reached at the postal address or email address above or by visiting SEAB's Web site at www.energy.gov/seab.

Issued in Washington, DC on November 14, 2013.
LaTanya R. Butler,
Deputy Committee Management Officer.

[FR Doc. 2013-27870 Filed 11-19-13; 8:45 am]

BILLING CODE 6450-01-P